DEPARTMENT OF COMMERCE

International Trade Administration

[A-583-844]

Narrow Woven Ribbons With Woven Selvedge From Taiwan: Rescission, in Part, of Antidumping Duty Administrative Review

AGENCY: Import Administration, International Trade Administration, Department of Commerce.

DATES: Effective Date: March 8, 2013.

FOR FURTHER INFORMATION CONTACT: Elizabeth Eastwood or David Crespo, AD/CVD Operations, Office 2, Import Administration, International Trade Administration, U.S. Department of Commerce, 14th Street and Constitution Avenue NW., Washington, DC 20230; telephone: (202) 482-3874 and (202) 482-3693, respectively.

Background

On September 4, 2012, the Department of Commerce (the Department) published a notice of opportunity to request an administrative review of the antidumping duty order on narrow woven ribbons with woven selvedge from Taiwan covering the period September 1, 2011, through August 31, 2012.¹ The Department received a timely request for an antidumping duty administrative review from the petitioner, Berwick Offray LLC and its wholly-owned subsidiary Lion Ribbon Company, Inc., for the following companies: (1) Apex Ribbon; (2) Apex Trimmings Inc. (d.b.a. Papillon Ribbon & Bow (Canada)) (Apex Trimmings); (3) Hubschercorp; (4) Intercontinental Skyline; (5) Multicolor; (6) Pacific Imports; (7) Shienq Huong Enterprise Co., Ltd./Hsien Chan Enterprise Co., Ltd./Novelty Handicrafts Co., Ltd. (Shienq Huong); ² and (8) Supreme Laces Inc. On October 31, 2012, the Department published a notice of initiation of administrative review with respect to these companies.³ On January 29, 2013, the petitioner withdrew its request for an administrative review for the following companies: (1) Apex Ribbon; (2) Apex Trimmings; (3) Hubschercorp; (4) Multicolor; (5) Shienq Huong; and (6) Supreme Laces Inc.

¹ See Antidumping or Countervailing Duty Order, Finding, or Suspended Investigation; Opportunity To Request Administrative Review, 77 FR 53863 (Sept. 4, 2012).

² The Department received a request for an administrative review of the antidumping order with respect to Shienq Huong. Narrow woven ribbons produced and exported by Shienq Huong was excluded from this order. However, subject merchandise produced by other producers and exported by Shienq Huong remains subject to the order. Thus, this administrative review with respect to Shienq Huong covers only subject merchandise which was produced in Taiwan by other companies and exported by Shienq Huong.

³ See Initiation of Antidumping and Countervailing Duty Administrative Reviews and Request for Revocation in Part, 77 FR 65858 (Oct. 31, 2012).

Rescission, In Part

Pursuant to 19 CFR 351.213(d)(1), the Secretary will rescind an administrative review, in whole or in part, if a party that requested the review withdraws the request within 90 days of the date of publication of notice of initiation of the requested review. The petitioner's request was submitted within the 90-day period and, thus, is timely. Because the petitioner's withdrawal of request for an antidumping duty administrative review is timely and because no other party requested a review of the companies listed above, in accordance with 19 CFR 351.213(d)(1), we are rescinding this administrative review with respect to the following companies: (1) Apex Ribbon; (2) Apex Trimmings; (3) Hubschercorp; (4) Multicolor; (5) Shienq Huong; and (6) Supreme Laces Inc. We note that we are not rescinding a review for Intercontinental Skyline and Pacific Imports.

Assessment

The Department will instruct U.S. Customs and Border Protection (CBP) to assess antidumping duties on all appropriate entries. For the companies for which this review is rescinded antidumping duties shall be assessed at rates equal to the cash deposit of estimated antidumping duties required at the time of entry, or withdrawal from warehouse, for consumption, in accordance with 19 CFR 351.212(c)(1)(i). The Department intends to issue appropriate assessment instructions to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: February 28, 2013.
Gary Taverman,
Senior Advisor for Antidumping and Countervailing Duty Operations.

[FR Doc. 2013-05467 Filed 3-7-13; 8:45 am]

BILLING CODE 3510-DS-P